NUCLEAR REGULATORY COMMISSION

[NRC-2012-0209]

Japan Lessons-Learned Project Directorate Interim Staff Guidance JLD-ISG-2012-04; Guidance on Performing a Seismic Margin Assessment in Response to the March 2012 Request for Information Letter

AGENCY: Nuclear Regulatory Commission.

ACTION: Japan Lessons-Learned Project Directorate Interim Staff Guidance issuance.

SUMMARY: The U.S. Nuclear Regulatory Commission (NRC) is issuing the Final Japan Lessons-Learned Project Directorate (JLD) Interim Staff Guidance (ISG), JLD-ISG-2012-04, “Guidance on Performing a Seismic Margin Assessment in Response to the March 2012 Request for Information Letter,” (Agencywide Documents Access and Management System (ADAMS) Accession No. ML12286A029). This JLD-ISG provides guidance and clarification to assist nuclear power reactor licensees when responding to the NRC staff's request for information dated March 12, 2012, Enclosure 1, “Recommendation 2.1: Seismic” (ADAMS Accession No. ML12053A340).

ADDRESSES: You may access information and comment submissions related to this document, which the NRC possesses and are publically available, by searching on http://www.regulations.gov under Docket ID NRC-2012-0209.

• Federal Rulemaking Web site: Go to http://www.regulations.gov and search for Docket ID NRC-2012-0209. Address questions about NRC dockets to Carol Gallagher; telephone: 301-492-3668; email: Carol.Gallagher@nrc.gov.

• NRC's ADAMS: You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The JLD-ISG-2012-04 is available under ADAMS Accession No. ML12286A029.

• NRC's PDR: You may examine and purchase copies of public documents at the NRC's PDR, Room O1-F21, One White Flint North, 11555 Rockville Pike, Rockville, MD 20852.

• NRC's Interim Staff Guidance Web Site: Go to http://www.nrc.gov/reading-rm/doc-collections/isg/japan-lessons-learned.html and refer to JLD-ISG-2012-04.

FOR FURTHER INFORMATION CONTACT: Mrs. Lisa M. Regner, Japan Lessons-Learned Project Directorate, Office of Nuclear Reactor Regulation, U.S. Nuclear Regulatory Commission, Washington, DC 20555-0001; telephone: 301-415-1906; email: Lisa.Regner@nrc.gov.

SUPPLEMENTARY INFORMATION:

Background Information

JLD-ISG-2012-04 is being issued to describe to the public the guidance that is acceptable to the NRC staff for responding to the request to reevaluate seismic hazards at operating reactor sites, as discussed in Enclosure 1, “Recommendation 2.1: Seismic,” of the NRC staff's request for information (RFI), “Request for Information Pursuant to Title 10 of the Code of Federal Regulations 50.54(f) Regarding Recommendations 2.1, 2.3, and 9.3, of the Near-Term Task Force Review of Insights from the Fukushima Dai-ichi Accident,” dated March 12, 2012 (ADAMS Accession No. ML12053A340).

The NRC issued the RFI following the NRC staff's evaluation of the earthquake and tsunami, and resulting nuclear accident, at the Fukushima Dai-ichi nuclear power plant in March 2011. Enclosure 1 to the RFI states that if a seismic margins analysis (SMA) is performed at a plant, then the SMA approach that the licensee uses should be in accordance with the NRC-approved approach in NUREG/CR-4334, “An Approach to the Quantification of Seismic Margins in Nuclear Power Plants,” issued in August 1985 (ADAMS Accession No. ML090500182), as enhanced for full-scope plants by NUREG-1407, “Procedural and Submittal Guidance for the Individual Plant Examination of External Events (IPEEE) for Severe Accident Vulnerabilities.” This ISG describes the enhancements to the NRC SMA method that are needed to meet the objectives of the RFI letter. In addition, the ISG presents staff positions on the major elements of the NRC SMA. Finally, the ISG provides updated references to allow use of the more recent advances in methods and guidance.

Numerous public meetings were held to receive stakeholder input on the proposed SMA guidance document prior to its issuance formally for public comment. On September 10, 2012 (77 FR 55510), the NRC requested public comments on draft JLD-ISG-2012-04. The staff received seventeen (17) comments from two (2) stakeholders. The comments were considered, evaluated, and resulted in modifications to the final JLD-ISG-2012-04. The comments and staff responses are contained in “NRC Responses to Public Comments,” for JLD-ISG-2012-04, which can be found in ADAMS at Accession No. ML12290A002.

Backfitting and Issue Finality

This ISG does not constitute backfitting as defined in 10 CFR 50.109 (the Backfit Rule) and is not otherwise inconsistent with the issue finality provisions in Part 52, “Licenses, Certifications, and Approvals for Nuclear Power Plants,” of 10 CFR. This ISG provides guidance on an acceptable method for implementing the March 12, 2012, RFI. Applicants and licensees may voluntarily use the guidance in JLD-ISG-2012-04 to comply with the RFI. Methods, analyses, or solutions that differ from those described in this ISG may be deemed acceptable if they provide sufficient basis and information for the NRC staff to verify that the proposed alternative is acceptable.

Congressional Review Act

This interim staff guidance is a rule as designated in the Congressional Review Act (5 U.S.C. 801-808). OMB has found that this is not a major rule in accordance with the Congressional Review Act.

Dated at Rockville, Maryland, this 16th day of November 2012.
For the Nuclear Regulatory Commission.
Robert M. Taylor,
Deputy Director, Japan Lessons-Learned Project Directorate, Office of Nuclear Reactor Regulation.

[FR Doc. 2012-28755 Filed 11-27-12; 8:45 am]

BILLING CODE 7590-01-P